ENVIRONMENTAL PROTECTION AGENCY

40 CFR Part 1

[FRL-9267-2]

Notice of a Public Meeting: Environmental Justice Considerations for Drinking Water Regulatory Efforts

AGENCY: Environmental Protection Agency (EPA).

ACTION: Notice of meeting.

SUMMARY: The U.S. Environmental Protection Agency (EPA) is hosting a public meeting to discuss and solicit input on environmental justice considerations related to several upcoming regulatory efforts. These regulatory efforts include the long-term revisions to the Lead and Copper Rule (LCR) and the third Regulatory Determinations from the drinking water Contaminant Candidate List 3. EPA recently announced its intentions to develop drinking water regulatory actions for perchlorate and carcinogenic volatile organic compounds (VOCs). While the Agency is in the very preliminary stages of developing the regulatory efforts for perchlorate and carcinogenic VOCs, EPA plans to discuss these actions at this meeting. Environmental justice is the fair treatment and meaningful involvement of all people regardless of race, color, national origin, or income with respect to the development, implementation, and enforcement of environmental laws, regulations and policies. EPA is holding this meeting to provide information to communities and an opportunity for communities to provide input on the LCR, Regulatory Determinations 3, perchlorate, and carcinogenic VOCs rulemaking efforts.

Date and Location: The public meeting will be held in Washington, DC on Thursday, March 3, 2011, from 10 a.m. to 5 p.m., Eastern Daylight Time (EDT). Participants will be notified of the specific meeting room upon confirmation of registration. Teleconferencing will be available for individuals unable to attend the meeting in person.

FOR FURTHER INFORMATION CONTACT: For general information about this meeting, contact Lameka Smith, Standards and Risk Management Division, Office of Ground Water and Drinking Water; by phone (202) 564-1629 or by sending an e-mail to smith.lameka@epa.gov. For additional information about the Lead and Copper Rule, please visit: http://water.epa.gov/lawsregs/rulesregs/sdwa/lcr/index.cfm. For additional information about the drinking water contaminant candidate list and the regulatory determinations process, please visit: http://water.epa.gov/scitech/drinkingwater/dws/ccl/index.cfm. For additional information about perchlorate, please visit: http://water.epa.gov/drink/contaminants/unregulated/perchlorate.cfm.

For additional information about carcinogenic VOCs, please visit the Drinking Water Strategy homepage: http://water.epa.gov/lawsregs/rulesregs/sdwa/dwstrategy/index.cfm.

SUPPLEMENTARY INFORMATION:

Registration: Individuals planning to attend in person or by teleconference must register for the meeting by contacting Junie Percy, of IntelliTech at (937) 427-4148 ext. 210 or by sending an e-mail to junie.percy@itsysteminc.com no later than Friday, February 28, 2011. Additional information pertaining to the meeting will be provided upon confirmation of registration. There is no charge for attending this public meeting, but seats and phone lines are limited, so register as soon as possible.

Special Accommodations: For information on access or request for special accommodations for individuals with disabilities, please contact Lameka Smith, Office of Ground Water and Drinking Water, U.S. Environmental Protection Agency; by telephone (202) 564-1629 or by sending an e-mail to smith.lameka@epa.gov. Please allow at least five business days prior to the meeting to allow time to process your request.

Dated: February 10, 2011.
Cynthia C. Dougherty,
Director, Office of Ground Water and Drinking Water.

[FR Doc. 2011-3383 Filed 2-14-11; 8:45 am]

BILLING CODE 6560-50-P